ENVIRONMENTAL PROTECTION AGENCY

[FRL-6930-5]

Science Advisory Board; Notification of Public Advisory Committee Meeting

SUMMARY: Pursuant to the Federal Advisory Committee Act, Public Law 92-463, notice is hereby given that the Clean Air Scientific Advisory Committee (CASAC) Technical Subcommittee for Fine Particle Monitoring will meet on Monday, January 22, 2001 at the US EPA Environmental Research Center (ERC), Classroom 2, Route 54 and Alexander Drive, Research Triangle Park, NC. The meeting will begin at 8:30 am and end no later than 5 pm, Eastern Time. The meeting is open to the public, however, due to limited space, seating will be on a first-come basis. For further information concerning the meeting, please contact the individuals listed below. Important Notice: Documents that are the subject of CASAC reviews are normally available from the originating EPA office and are not available from the CASAC Office—information concerning availability of documents from the relevant Program Office is included below.

Background—This technical subcommittee of CASAC was established in 1996 to provide advice and comment to EPA (through CASAC) on appropriate methods and network strategies for monitoring fine particles in the context of implementing the revised national ambient air quality standards (NAAQS) for particulate matter.

Purpose of the Meeting—At this meeting, the Subcommittee will gather information and receive briefings from Agency Staff and outside entities.

Currently, EPA is in the process of preparing a revised criteria document and related materials in anticipation of reviewing the National Ambient Air Quality Standard (NAAQS) for Particulate Matter (PM). As part of that review and in light of the ongoing effort to monitor particles, particularly fine particles, there is an increasing need to have effective and efficient methods to continuously monitor PM mass. Such monitoring presents significant problems and currently, the regulations in place make it difficult to qualify a continuous monitor as an equivalent method to the designated Federal Reference Method (FRM) approach.

The CASAC Technical Subcommittee for Fine Particle Monitoring is soliciting public input on the development of technologies and approaches that would provide continuous monitoring of airborne PM with a sufficient accuracy and precision that it could be used for regulatory purposes. We invite interested individuals, companies, and state and local regulatory agencies to submit ideas (in writing or at the meeting) as to a framework in which conflicting demands of convenience in monitoring, accuracy, precision, and concordance with the existing base of monitoring data could be developed. At this time, we are not looking for descriptions of specific devices, but rather possible approaches (within the regulatory environment) that would encourage development, testing, and qualification of new instruments for this purpose.

Presentations may be made to the Subcommittee either orally or via a poster. Posters will be set up either within the meeting room or in the hallway outside, depending on the number of posters requested. Appropriate time will be allocated during the mid-point of the meeting to evaluate posters and to discuss these posters with presenters.

Availability of Review Materials—A brief white paper, outlining some of the issues under consideration, will be available from EPA Staff on or about January 9th. For further details, or to obtain a copy of the draft white paper, please contact Tim Hanley, US EPA, Office of Air Quality Planning and Standards (MD-14), Research Triangle Park, NC 20771, phone (919) 541-4417 or via e-mail at: hanley.tim@epa.gov.

FOR FURTHER INFORMATION: Members of the public desiring additional information about the meeting should contact Mr. Robert Flaak, Designated Federal Officer, Clean Air Scientific Advisory Committee, Science Advisory Board (1400A), Suite 6450, U.S. EPA, 1200 Pennsylvania Avenue, NW, Washington, DC 20460; telephone/voice mail at (202) 564-4546; fax at (202) 501-0582; or via e-mail at flaak.robert@epa.gov. A copy of the draft agenda will be posted on the SAB Website (www.epa.gov/sab) (under the “Agenda” subheading) approximately 12 days before the meeting.

Members of the public who wish to make a brief oral presentation to the Subcommittee, or make arrangements for a poster, must contact Mr. Flaak in writing (by letter or by fax—see previously stated information) no later than 12 noon Eastern Time, Wednesday, January 17, 2001 in order to be included on the Agenda. Public comments will be limited to approximately ten minutes per speaker or organization, unless other arrangements have been made in advance with Mr. Flaak for additional time. The request should identify the name of the individual making the presentation, the organization (if any) they will represent, any requirements for audio visual equipment (e.g., overhead projector, 35mm projector, chalkboard, etc.), and at least 35 copies of an outline of the issues to be addressed or of the presentation itself. Those requesting a poster should provide their requirements in the same request (Posters, or other display materials can be wall mounted, or placed on panels or tables).

Providing Oral or Written Comments at SAB Meetings

The Science Advisory Board expects that public statements presented at its meetings will not be repetitive of previously submitted oral or written statements. In general, each individual or group making an oral presentation will be limited to a total time of ten minutes. For conference call meetings, opportunities for oral comment will be limited to no more than five minutes per speaker and no more than fifteen minutes total. Written comments (at least 35 copies) received in the SAB Staff Office sufficiently prior to a meeting date, may be mailed to the relevant SAB committee or subcommittee prior to its meeting; comments received too close to the meeting date will normally be provided to the committee at its meeting. Written comments may be provided to the relevant committee or subcommittee up until the time of the meeting.

Additional information concerning the Science Advisory Board, its structure, function, and composition, may be found on the SAB Website (http://www.epa.gov/sab) and in The FY2000 Annual Report of the Staff Director which is available from the SAB Publications Staff at (202) 564-4533 or via fax at (202) 501-0256.

Individuals requiring special accommodation at this meeting, including wheelchair access, should contact Mr. Flaak at least five business days prior to the meeting so that appropriate arrangements can be made.

Dated: December 28, 2000.
Donald G. Barnes,
Staff Director, Science Advisory Board.

[FR Doc. 01-465 Filed 1-5-01; 8:45 am]

BILLING CODE 6560-50-P